ENVIRONMENTAL PROTECTION AGENCY

[CERCLA-02-2021-2033; FRL-9475-01-R2]

Proposed CERCLA Settlement Agreement for the Pierson's Creek Superfund Site, City of Newark, Essex County, New Jersey

AGENCY: Environmental Protection Agency.

ACTION: Notice; request for public comment.

SUMMARY: In accordance with the Comprehensive Environmental Response, Compensation, and Liability Act of 1980, as amended (“CERCLA”), notice is hereby given by the U.S. Environmental Protection Agency (“EPA”), Region 2, of a proposed bona fide prospective purchaser agreement (“Agreement”) with 429 Delancy Associates, L.L.C. (“429 Delancy”) for the Pierson's Creek Superfund Site (“Site”), located in the City of Newark, Essex County, New Jersey. Under the proposed Agreement, 429 Delancy agrees to perform a non-time critical removal action to remove mercury-contaminated sediments on 429 Delancy's property adjacent to Pierson's Creek, which flows through its property, and to reimburse EPA for costs incurred in overseeing this work. The property is located at 429 Delancy Street, City of Newark, Essex County, New Jersey, designated as Block 5042, Lot 02 within the Pierson's Creek Superfund Site.

DATES: Comments must be submitted on or before March 11, 2022.

ADDRESSES: Comments can be sent via email to Amelia Wagner at wagner.amelia@epa.gov. Comments should reference the Pierson's Creek Superfund Site, CERCLA Settlement Agreement, Index No. CERCLA-02-2021-2033. The proposed settlement is available for public inspection at this website: https://semspub.epa.gov/src/document/02/638500.

FOR FURTHER INFORMATION CONTACT: Amelia Wagner, Attorney, Office of Regional Counsel, U.S. Environmental Protection Agency. Email: wagner.amelia@epa.gov. Telephone: 212-637-3141.

SUPPLEMENTARY INFORMATION: For thirty (30) days following the date of publication of this document, EPA will receive written comments relating to the proposed Agreement. EPA will consider all comments received and may modify or withdraw its consent to the proposed Agreement if comments received disclose facts or considerations that indicate that the proposed Agreement is inappropriate, improper, or inadequate. EPA's response to any comments received will be available for public inspection online and/or at EPA Region 2, 290 Broadway, New York, New York 10007-1866.

Pasquale Evangelista,
Director, Superfund & Emergency Management Division, Environmental Protection Agency, Region 2.

[FR Doc. 2022-02679 Filed 2-8-22; 8:45 am]

BILLING CODE 6560-50-P